DEPARTMENT OF JUSTICE

Notice of Lodging of Consent Decree Pursuant to the Clean Water Act

On April 25, 2019, the Department of Justice lodged a proposed Consent Decree (“Consent Decree”) in the United States District Court for the Southern District of Mississippi, in the lawsuit entitled the United States of America and State of Mississippi v. Denbury Onshore, LLC Civil Action No. 3:19-CV-289-HTW-LRA.

This Decree represents a settlement of the United States' and State's (“Plaintiffs”) claims against Denbury Onshore, LLC. (“Defendant”) for violations of the Clean Water Act and various State laws. Under the Consent Decree, the Defendant will be required to undertake an extensive program designed to eliminate the discharges of oil from the Defendant's oil fields located in Mississippi. The Consent Decree further requires the Defendant to pay a civil penalty of $3.5 million, with $2.4 million being paid to the Oil Spill Liability Trust Fund, and $1.1 million being paid to the State of Mississippi.

The publication of this notice opens a period for public comment on the Consent Decree. Comments should be addressed to the Assistant Attorney General, Environment and Natural Resources Division, and should refer to United States of America and State of Mississippi v. Denbury Onshore, LLC., the D.J. Ref. No. 90-5-1-1-10733. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Amended Consent Decree may be examined and downloaded at this Justice Department website: http://www.usdoj.gov/enrd/Consent_Decrees.html. We will provide a paper copy of the Amended Consent Decree upon written request and payment of reproduction costs. Please mail your request and payment to: Consent Decree Library, U.S. DOJ—ENRD, P.O. Box 7611, Washington, DC 20044-7611.

Please enclose a check or money order for $12.75 (25 cents per page reproduction cost) payable to the United States Treasury for the Consent Decree and $21.25 for the Consent Decree and Exhibits thereto.

Henry S. Friedman,
Assistant Section Chief, Environmental Enforcement Section, Environment and Natural Resources Division.

[FR Doc. 2019-09879 Filed 5-13-19; 8:45 am]

BILLING CODE 4410-15-P